DEPARTMENT OF AGRICULTURE

Forest Service

Eastern Arizona Counties Resource Advisory Committee

AGENCY: Forest Service, USDA.

ACTION: Notice of meeting.

SUMMARY: The Eastern Arizona Counties Resource Advisory Committee will meet in Show Low, Arizona. The purpose of the meeting is to initiate the resource advisory committee process, learn the roles and the responsibilities of the committee, discuss elements of Pub. L. 106-393 (the Secure Rural Schools and Community Self-Determination Act), and formulate operating guidelines including the next meeting date.

DATES: The meeting will be held October 11, 2002.

ADDRESSES: The meeting will be held at the Holiday Inn Express, 151 West Deuce of Clubs, Show Low, Arizona 85901. Send written comments to Robert Dyson, Eastern Arizona Counties Resource Advisory Committee, c/o Forest Service, USDA, P.O. Box 640, Springerville, Arizona 85938 or electronically to rdyson@fs.fed.us.

FOR FURTHER INFORMATION CONTACT: Roberty Dyson, Public Affairs Officer, Apache-Sitgreaves National Forests, (928) 333-4301.

SUPPLEMENTARY INFORMATION: The meeting is open to the public. Committee discussion is limited to Forest Service staff and Committee members. However, persons who wish to bring Pub. L. 106-393 related matters to the attention of the Council may file written statements with the council staff before or after the meeting. Public input sessions will be provided and individuals who made written requests by October 4, 2002, will have the opportunity to address the Council at those sessions.

Dated: September 9, 2002.
John C. Bedell,
Forest Supervisor, Apache-Sitgreaves National Forests.

[FR Doc. 02-23342 Filed 9-12-02; 8:45 am]

BILLING CODE 3410-11-M